ENVIRONMENTAL PROTECTION AGENCY

[ER-FRL-6653-5]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 2, 2004 (69 FR 17403).

Draft EISs

ERP No. D-AFS-L65455-ID Rating EC2, Clearwater National Forest, Proposes to Approve Plans-of-Operation for Small-Scale Suction Dredging in Lolo Creek and Moose Creek, Clearwater National Forest, North Fork Ranger District, Clearwater and Idaho Counties, ID.

Summary: EPA expressed concern due to water quality impacts related to suction dredge operations. EPA recommends that the final EIS discuss the proposed 303(d) listing of Lolo Creek and how this will affect management of the project area.

ERP No. D-FTA-K53010-CA Rating EC2, Gold Line Phase II—Pasadena to Montclair—Foothill Extension, To Address Transportation Problems and Deficiencies, Cities of Pasadena, Arcadia, Monrovia, Durate, Irwindale, Azusa, Glendora, San Dimas, La Verne, Pomona and Claremont in Los Angeles County and Cities of Montclair and Upland in San Bernardino County, CA.

Summary: EPA expressed environmental concerns regarding impacts to air quality, waters of the U.S., biological resources, and hazardous materials management. EPA recommends additional information in the FEIS regarding these resources.

ERP No. D-NPS-K61159-CA Rating LO, Sequoia and Kings Canyon National Parks, Middle and South Forks of the Kings River and North Fork of the Kern River, General Management Plan, Tulare and Fresno Counties, CA.

Summary: EPA expressed a lack of objections to the project, but suggested additional information in the FEIS regarding expansion of the parks' shuttle system, air quality standards, and stock use mitigation measures.

Final EISs

ERP No. F-AFS-F65040-WI, Programmatic EIS—Cheguamegon-Nicolet National Forests Revised Land and Resource Management Plan, Implementation, Ashland, Bayfield, Florence, Forest, Langlade, Oconto, Oneida, Price, Sawyer, Taylor and Vilas Counties, CA.

Summary: EPA's previous comments were addressed in the Final EIS. Therefore, EPA has no objection to the proposed action.

ERP No. F-AFS-H65015-NB, Pine Ridge Geographic Area Rangeland Allotment Management Planning, To Permit Livestock Grazing on 34 Allotments, Nebraska National Forest, Pine Ridge Ranger District, Dawes and Sioux Counties, NB.

Summary: EPA's concerns identified in the Draft EIS were addressed in the Final EIS. Therefore, EPA was no objection to the proposed action.

ERP No. F-AFS-J65394-MT, Basin Creek and Blacktail Hazardous Watershed Fuels Reduction Project, Implementation, Highland Mountains, Butte Ranger District, Beaverhead-Deerlodge National Forest, Butte-Silver Bow County, MT.

Summary: EPA supports the need to protect the Basin Creek municipal watershed for the City of Butte, and to reduce hazardous fuels and fire risk. However, given concerns with the potential impacts to water quality EPA stressed the need to avoid impacts to water quality in the municipal watershed during hazardous fuel reduction treatments.

ERP No. F-IBR-L39059-WA, Banks Lake Drawdown Project, Proposal to Lower the Water Surface Elevation from 1565 feet to 1560 feet in August of each year, Columbia River, Douglas and Grant Counties, WA.

Summary: No formal comment letter was sent to the preparing agency.

ERP No. F-NPS-K65244-CA, Yosemite Fire Management Plan, Alternative for Carrying out the Fire Management Program, Implementation, Yosemite National Park, Sierra Nevada, Mariposa, Tuolumne, Madera and Mono Counties, CA.

Summary: EPA expressed a lack of objections to the project. However, as the project area was recently redesignated as nonattainment for the new eight-hour ozone national ambient air quality standard, EPA recommends that the ROD reflect the need to meet conformity requirements at 40 CFR 93.150-93.160 after June 15, 2005.

ERP No. FR-BLM-G70005-NM, Sierra and Otero Counties Resource Management Plan Amendment and Federal Fluid Minerals Leasing and Development, Additional Information to Improve the Public Understanding of the Proposed Plan, Implementation, Sierra and Otero Counties, NM.

Summary: No formal comment letter was sent to the preparing agency.

Dated: July 6, 2004.
Ken Mittelholtz,
Environmental Protection Agency, Office of Federal Activities.

[FR Doc. 04-15620 Filed 7-8-04; 8:45 am]

BILLING CODE 6560-50-P